FEDERAL MARITIME COMMISSION

Notice of Request for Additional Information

The Commission gives notice that it has requested that the parties to the below listed agreement provide additional information pursuant to section 6(d) of the Shipping Act of 1984, 46 U.S.C. app. §§ 1701 et seq. The Commission has determined that further information is necessary to evaluate the proposed agreement. This action prevents the agreement from becoming effective as originally scheduled.

Agreement No.: 011784.

Title: Indamex/TSA Bridging Agreement.

Parties: The Indamex Agreement, Transpacific Stabilization Agreement.

By Order of the Federal Maritime Commission.
Dated: February 4, 2002.
Bryant L. VanBrakle,
Secretary.

[FR Doc. 02-3071 Filed 2-7-02; 8:45 am]

BILLING CODE 6730-01-P